DEPARTMENT OF TRANSPORTATION

Federal Aviation Administration

[Summary Notice No. PE-2018-76]

Petition for Exemption; Summary of Petition Received; Bombardier Inc.; Correction

AGENCY: Federal Aviation Administration (FAA), DOT.

ACTION: Notice; correction.

SUMMARY: The FAA published a document in the Federal Register on October 5, 2018, requesting comments on a petition for exemption seeking relief from specified requirements of Federal Aviation Regulations. The document contained one incorrect reference to the petitioner.

FOR FURTHER INFORMATION CONTACT: Mark Forseth, AIR-673, Federal Aviation Administration, 2200 South 216th Street, Des Moines, WA 98198, phone and fax 206-231-3179, email Mark.Forseth@faa.gov; or Alphonso Pendergrass, ARM-200, Office of Rulemaking, Federal Aviation Administration, 800 Independence Avenue SW, Washington, DC 20591, phone 202-267-4713, email Alphonso.Pendergrass@faa.gov.

SUPPLEMENTARY INFORMATION:

Correction

In Summary Notice No. PE-2018-76, published in the Federal Register on October 5, 2018 (83 FR 50435), in FR Doc. 2018-21656, on page 50435, in the second column, correct the “Subject Heading” as follows:

Petition for Exemption; Summary of Petition Received; Bombardier Inc.

Issued in Des Moines, Washington, on October 10, 2018.
Victor Wicklund,
Manager, Transport Standards Branch.

[FR Doc. 2018-22927 Filed 10-19-18; 8:45 am]

BILLING CODE 4910-13-P